DEPARTMENT OF ENERGY

Federal Energy Regulatory Commission

Combined Notice of Filings #1

Take notice that the Commission received the following electric rate filings:

Docket Numbers: ER10-1852-101; ER00-3240-022; ER10-2641-050.

Applicants: Oleander Power Project, Limited Partnership, Oleander Power Project, L.P., Florida Power & Light Company.

Description: Notice of Change in Status of Florida Power & Light Company et al.

Filed Date: 1/29/25.

Accession Number: 20250129-5273.

Comment Date: 5 p.m. ET 2/19/25.

Docket Numbers: ER20-2101-003; ER23-2407-003.

Applicants: Strauss Wind, LLC, Fern Solar LLC.

Description: Notice of Non-Material Change in Status of Fern Solar LLC, et al.

Filed Date: 1/29/25.

Accession Number: 20250129-5267.

Comment Date: 5 p.m. ET 2/19/25.

Docket Numbers: ER23-2066-003; ER24-1336-002.

Applicants: White Wing Ranch North, LLC, Antelope Valley BESS, LLC.

Description: Notice of Non-Material Change in Status of Antelope Valley BESS, LLC et al.

Filed Date: 1/29/25.

Accession Number: 20250129-5261.

Comment Date: 5 p.m. ET 2/19/25.

Docket Numbers: ER24-708-002.

Applicants: Transource Oklahoma, LLC, Southwest Power Pool, Inc.

Description: Compliance filing: Southwest Power Pool, Inc. submits tariff filing per 35: Transource Oklahoma Second Amended Order 864 Compliance Filing to be effective 7/1/2021.

Filed Date: 1/31/25.

Accession Number: 20250131-5066.

Comment Date: 5 p.m. ET 2/21/25.

Docket Numbers: ER24-1163-001; ER10-1514-007; ER15-2534-002; ER17-1840-002; ER22-784-006; ER24-255-002.

Applicants: CPV Stagecoach Solar, LLC, CPV Maple Hill Solar, LLC, Canton Mountain Wind, LLC, Saddleback Ridge Wind, LLC, CPV Keenan II Renewable Energy Company, LLC, CPV Backbone Solar, LLC.

Description: Notice of Change in Status of CPV Backbone Solar, LLC et al.

Filed Date: 1/30/25.

Accession Number: 20250130-5273.

Comment Date: 5 p.m. ET 2/20/25.

Docket Numbers: ER24-1738-002; ER24-1593-001.

Applicants: Randolph Solar Park LLC, Ragsdale Solar, LLC.

Description: Notice of Non-Material Change in Status of Ragsdale Solar, LLC et al.

Filed Date: 1/29/25.

Accession Number: 20250129-5262.

Comment Date: 5 p.m. ET 2/19/25.

Docket Numbers: ER24-2179-001; ER24-1832-002; ER24-1941-002; ER24-2824-003; ER25-960-001.

Applicants: RE Papago PV LLC, RE Papago LLC, Liberty County Solar Project, LLC, North Fork Solar Project, LLC, Bayou Galion Solar Project, LLC.

Description: Notice of Change in Status of Bayou Galion Solar Project, LLC et al.

Filed Date: 1/29/25.

Accession Number: 20250129-5265.

Comment Date: 5 p.m. ET 2/19/25.

Docket Numbers: ER25-503-002.

Applicants: Public Service Company of Colorado.

Description: Tariff Amendment: 2025-01-31—PSC—UPI—T-2024-8—Farren—SISA—853—Deficiency to be effective 1/20/2025.

Filed Date: 1/31/25.

Accession Number: 20250131-5171.

Comment Date: 5 p.m. ET 2/21/25.

Docket Numbers: ER25-1083-000.

Applicants: Holtec Palisades, LLC.

Description: Request for Limited Waiver of Tariff Provisions of Holtec Palisades, LLC.

Filed Date: 1/28/25.

Accession Number: 20250128-5258.

Comment Date: 5 p.m. ET 2/12/25.

Docket Numbers: ER25-1107-000.

Applicants: SloughHouse Solar, LLC.

Description: 205(d) Rate Filing: Application for Market-Based Rate Authority to be effective 3/15/2025.

Filed Date: 1/30/25.

Accession Number: 20250130-5243.

Comment Date: 5 p.m. ET 2/20/25.

Docket Numbers: ER25-1108-000.

Applicants: Basin Electric Power Cooperative.

Description: 205(d) Rate Filing: Basin Electric Submission of Revisions to Attachment E to be effective 3/31/2025.

Filed Date: 1/30/25.

Accession Number: 20250130-5247.

Comment Date: 5 p.m. ET 2/20/25.

Docket Numbers: ER25-1109-000.

Applicants: Pacific Gas and Electric Company.

Description: 205(d) Rate Filing: WDT SA 275: City and County of San Francisco Q4 2024 Filing to be effective 12/31/2024.

Filed Date: 1/31/25.

Accession Number: 20250131-5000.

Comment Date: 5 p.m. ET 2/21/25.

Docket Numbers: ER25-1110-000.

Applicants: Entergy Louisiana, LLC.

Description: 205(d) Rate Filing: ELL-Concordia LBA Agreement to be effective 4/1/2025.

Filed Date: 1/31/25.

Accession Number: 20250131-5001.

Comment Date: 5 p.m. ET 2/21/25.

Docket Numbers: ER25-1111-000.

Applicants: Entergy Louisiana, LLC.

Description: 205(d) Rate Filing: ELL-JDEC LBA Agreement to be effective 4/1/2025.

Filed Date: 1/31/25.

Accession Number: 20250131-5002.

Comment Date: 5 p.m. ET 2/21/25.

Docket Numbers: ER25-1112-000.

Applicants: Entergy Louisiana, LLC.

Description: 205(d) Rate Filing: ELL-SLEMCO LBA Agreement to be effective 4/1/2025.

Filed Date: 1/31/25.

Accession Number: 20250131-5003.

Comment Date: 5 p.m. ET 2/21/25.

Docket Numbers: ER25-1113-000.

Applicants: New York Independent System Operator, Inc., Niagara Mohawk Power Corporation.

Description: 205(d) Rate Filing: New York Independent System Operator, Inc. submits tariff filing per 35.13(a)(2)(iii: NYISO—National Grid Joint 205: Amended SGIA Hawthorn Solar SA2756 to be effective 1/16/2025.

Filed Date: 1/31/25.

Accession Number: 20250131-5017.

Comment Date: 5 p.m. ET 2/21/25.

Docket Numbers: ER25-1114-000.

Applicants: Green Mountain Power Corporation.

Description: 205(d) Rate Filing: GMP; Refund for Post-Retirement Benefits Other Than Pensions to be effective 4/1/2025.

Filed Date: 1/31/25.

Accession Number: 20250131-5035.

Comment Date: 5 p.m. ET 2/21/25.

Docket Numbers: ER25-1116-000.

Applicants: Southwest Power Pool, Inc.

Description: 205(d) Rate Filing: 607R48 Evergy Kansas Central, Inc. NITSA NOA to be effective 1/1/2025.

Filed Date: 1/31/25.

Accession Number: 20250131-5083.

Comment Date: 5 p.m. ET 2/21/25.

Docket Numbers: ER25-1117-000.

Applicants: Southwest Power Pool, Inc.

Description: 205(d) Rate Filing: 1276R36 Evergy Metro NITSA NOA to be effective 1/1/2025.

Filed Date: 1/31/25.

Accession Number: 20250131-5106.

Comment Date: 5 p.m. ET 2/21/25.

Docket Numbers: ER25-1118-000.

Applicants: PJM Interconnection, L.L.C.

Description: 205(d) Rate Filing: Original GIA, Service Agreement No. 7514; AG1-307 to be effective 1/3/2025.

Filed Date: 1/31/25.

Accession Number: 20250131-5128.

Comment Date: 5 p.m. ET 2/21/25.

Docket Numbers: ER25-1119-000.

Applicants: Consolidated Edison Company of New York, Inc.

Description: 205(d) Rate Filing: 2025 ICAP Peak Hour to be effective 2/1/2025.

Filed Date: 1/31/25.

Accession Number: 20250131-5177.

Comment Date: 5 p.m. ET 2/21/25.

Docket Numbers: ER25-1120-000.

Applicants: Virginia Electric and Power Company.

Description: 205(d) Rate Filing: Virginia Electric and Power Co. submits WDSA SA No. 7285 to be effective 1/3/2025.

Filed Date: 1/31/25.

Accession Number: 20250131-5190.

Comment Date: 5 p.m. ET 2/21/25.

Docket Numbers: ER25-1121-000.

Applicants: Virginia Electric and Power Company.

Description: 205(d) Rate Filing: Virginia Electric and Power Co. submits WDSA SA No. 7286 to be effective 1/3/2025.

Filed Date: 1/31/25.

Accession Number: 20250131-5194.

Comment Date: 5 p.m. ET 2/21/25.

Docket Numbers: ER25-1122-000.

Applicants: New England Power Pool Participants Committee.

Description: 205(d) Rate Filing: Feb 2025 Membership Filing to be effective 1/1/2025.

Filed Date: 1/31/25.

Accession Number: 20250131-5204.

Comment Date: 5 p.m. ET 2/21/25.

Docket Numbers: ER25-1123-000.

Applicants: Power Authority of the State of New York, Niagara Mohawk Power Corporation, New York Independent System Operator, Inc.

Description: 205(d) Rate Filing: New York Independent System Operator, Inc. submits tariff filing per 35.13(a)(2)(iii: NYISO—National Grid—NYPA Joint 205: TPIA for NNYPTP, SA 2870 (CEII) to be effective 1/16/2025.

Filed Date: 1/31/25.

Accession Number: 20250131-5205.

Comment Date: 5 p.m. ET 2/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 31, 2025.
Debbie-Anne A. Reese,
Secretary.

[FR Doc. 2025-02322 Filed 2-6-25; 8:45 am]

BILLING CODE 6717-01-P